DEPARTMENT OF COMMERCE

National Oceanic and Atmospheric Administration

RIN 0648-XC267

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council (Council) will hold a meeting of its Snapper Grouper Advisory Panel (AP) in North Charleston, SC.

DATES: The meeting will take place November 7-8, 2012. See SUPPLEMENTARY INFORMATION for specific dates and times.

ADDRESSES: The meeting will be held at the Crowne Plaza Hotel, 4831 Tanger Outlet Blvd., North Charleston, SC 29418; telephone: (843) 744-4422; fax: (843) 744-4472.

FOR FURTHER INFORMATION CONTACT: Kim Iverson, Public Information Officer, South Atlantic Fishery Management Council, 4055 Faber Place Drive, Suite 201, N. Charleston, SC 29405; telephone: (843) 571-4366 or toll free: (866) SAFMC-10; fax: (843) 769-4520; email: kim.iverson@safmc.net.

SUPPLEMENTARY INFORMATION: Members of the Snapper Grouper AP will meet from 9 a.m. on November 7, 2012, until 3 p.m. on November 8, 2012.

The meeting will address updates from the October 2012 Scientific and Statistical Committee (SSC) Meeting, including: Results of the vermilion snapper and red porgy assessments and the yellowtail snapper benchmark assessment; and the probability of rebuilding for black sea bass. Additionally, the AP will receive updates on recently completed amendments and provide input on developing amendments, including: Regulatory Amendment 13, which would adjust Annual Catch Limits (ACLs) for unassessed snapper grouper species to incorporate revised recreational landings estimates based on the Marine Recreational Information Program (MRIP); Regulatory Amendment 15, which contains measures that would allow future harvest of red snapper, adjust the Acceptable Biological Catch (ABC), ACLs, and Annual Catch Target (ACT) for yellowtail snapper based on the most recent stock assessment as well as modify the Accountability Measure (AM) for gag that prohibits the harvest of shallow water groupers species when the gag ACL is met; and Amendment 27, which would address management measures for blue runner. Amendment 27 would also transfer management responsibility of yellowtail snapper, mutton snapper and Nassau grouper from the Gulf of Mexico Fishery Management Council to the South Atlantic Fishery Management Council and make revisions to the framework process to minimize regulatory delay when adjustments to the ABC, ACLs, and ACTs are needed. The AP will provide recommendations to the Council on visioning and long-term strategic planning for the snapper grouper fishery and address other business as needed.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for auxiliary aids should be directed to the Council office (see ADDRESSES) 3 days prior to the meeting.

Note: The times and sequence specified in this agenda are subject to change.

Dated: October 16, 2012.
William D. Chappell,
Acting Deputy Director, Office of Sustainable Fisheries, National Marine Fisheries Service.

[FR Doc. 2012-25822 Filed 10-18-12; 8:45 am]

BILLING CODE 3510-22-P